DEPARTMENT OF THE INTERIOR

Bureau of Land Management

[CA-650-01-1220-JG-064B]

Closure Order for Motorized Vehicle Use, Surprise Canyon Area of Critical Environmental Concern BLM Route P71, Panamint Mountains, Inyo County, CA

AGENCY: Bureau of Land Management, United States Department of the Interior.

ACTION: Notice of vehicle closure on BLM Route P71 in the Surprise canyon area of critical environmental concern, Panamint Mountains in Inyo County, California.

SUMMARY: Notice is hereby given that BLM Route P71 is closed to motorized vehicle use within the Surprise Canyon Area of Critical Environmental Concern (ACEC).

Order: The public lands from a point located in the vicinity of Chris Wicht Camp approximately four miles east of the intersection of BLM Route P71 and the Indian Ranch/Wingate Road to the boundary of Death Valley National Park within the Surprise Canyon ACEC is hereby closed to all motorized vehicle use. No person may use, drive, transport, park, let stand, or have charge or control over any motorized vehicle in the area located east of the closure signs and the BLM locked gate. Exemptions to this order may be granted to law enforcement and other emergency vehicles in the course of official duties. Exemptions to this order may be granted to the holders of private property in the vicinity of Panamint City in Death Valley National Park for reasonable access after receiving a written agreement and a key from the Ridgecrest Field Office Manager.

EFFECTIVE DATE: This closure is effective upon publication in the Federal Register and will remain in effect until rescinded by the authorizing official which will occur when a final decision on the disposition of the road will be made after the National Environmental Policy Act and California Desert Conservation Area Plan amendment processes are completed. BLM will implement the proposed action effective the date of publication in the Federal Register, without prior notice and opportunity for public comment, because of the imminent need for regulatory authority to prevent illegal/unauthorized vehicle intrusion into the Surprise Canyon Wilderness and potential risk to aquatic/riparian resources.

FOR FURTHER INFORMATION CONTACT: Field Office Manager, Bureau of Land Management, Ridgecrest Field Office, 300 South Richmond Road, Ridgecrest CA 93555, (760) 384-5405.

SUPPLEMENTARY INFORMATION: In March 16, 2000, the Center for Biological Diversity, et al. (Center) filed for injunctive relief in U.S. District Court, Northern District of California (Court) against the Bureau of Land Management (BLM) to immediately prohibit all grazing activities that may affect listed species. The Center alleges the BLM was in violation of section 7 of the Endangered Species Act (ESA) by failing to enter into formal consultation with the U.S. Fish and Wildlife Service (FWS) on the effects of adoption of the California Desert Conservation Area Plan (CDCA Plan), as amended, upon threatened and endangered species. On August 25, 2000, the BLM acknowledged through a court stipulation that activities authorized, permitted, or allowed under the CDCA Plan may adversely affect threatened and endangered species, and that the BLM is required to consult with the FWS to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on an overall plan is complex and the completion date uncertain. Absent consultation on the entire plan, the impacts of individual activities, when added together with the impacts of other activities in the desert, are not known. The BLM entered into negotiations with plaintiffs regarding interim actions to be taken to provide protection for endangered and threatened species pending completion of consultation on the plan. Agreement on these interim actions avoided litigation of plaintiffs' request for injunctive relief and the threat of an injunction prohibiting all activities authorized under the plan. These interim agreements allowed BLM to continue appropriate levels of activity throughout the planning area during the lengthy consultation process while providing protection to the desert tortoise and other listed species in the short term. By taking interim actions as allowed under 43 CFR 8364.1, BLM contributes to the conservation of the endangered and threatened species in accordance with 7 (a)(1) of the ESA. BLM also avoids making any irreversible or irretrievable commitment of resources which would foreclose any reasonable and prudent alternatives which might be required as a result of the consultation on the CDCA Plan in accordance with 7(d) for the ESA. In January 2001, the parties signed the Stipulation and Proposed Order concerning All Further Injunctive Relief.

This closure order is issued to provide interim protection of riparian habitat, water quality, sensitive wildlife resources, and wilderness values within the Surprise Canyon ACEC until such a time when the BLM completes a thorough review and analysis of various methods of access in Surprise Canyon and complies with the processes required by the National Environmental Policy Act and the California Desert Conservation Area Plan. This interim closure will allow BLM to properly evaluate and arrive at a final decision on environmentally acceptable methods of access in Surprise Canyon while protecting the canyon from further impact caused by the operation of off-highway vehicles. Concerns over the effects of off-highway vehicle use in Surprise Canyon on environmental quality and natural resources have been raised in a lawsuit filed against the BLM, and these concerns need to be addressed through the processes required by the National Environmental Policy Act and the California Desert Conservation Area Plan.

The canyon riparian zone currently does not meet the BLM's minimum standards for a properly functioning riparian system due to soil erosion and streambed alterations caused by off-highway vehicle use. The Surprise Canyon ACEC supports several California BLM and California State sensitive plant and animal species that are dependant on a properly functioning riparian system.

The canyon will remain open for human use that does not entail the use of a motorized vehicle within the area closed by this order. Maps showing the affected area are available by contacting the Ridgecrest Field Office, California Desert Conservation Area, Ridgecrest, CA. A gate will be erected at the closure points and the affected area will be posted with public notices and standard motorized vehicle closure signs. The BLM will issue a final decision on allowable methods of public access in Surprise Canyon following completion of public scoping, and a National Environmental Policy Act (NEPA) compliance document. The NEPA compliance document will evaluate a full range of options for management of human access to Surprise Canyon within the area affected by the interim closure.

Authority for this closure is found in 43 CFR 8364.1. Violations of this order may be subject to the penalties provided according to 43 CFR 8360.0-7.

Dated: May 23, 2001.
Gail Acheson,
Acting Deputy State Director for Resources.

[FR Doc. 01-13538 Filed 5-25-01; 8:45 am]

BILLING CODE 4310-40-P